DEPARTMENT OF COMMERCE

International Trade Administration

[A-549-817, C-549-818, and C-791-810]

Notice of Postponement of Final Antidumping Duty Determination: Certain Hot-Rolled Carbon Steel Flat Products from Thailand; and Notice of Postponement of Final Countervailing Duty Determinations: Certain Hot-Rolled Carbon Steel Flat Products from Thailand and South Africa

AGENCY: Import Administration, International Trade Administration, Department of Commerce.

ACTION: Notice of Postponement of Final Antidumping Duty Determination and Final Countervailing Duty Determinations.

EFFECTIVE DATE: June 13, 2001.

FOR FURTHER INFORMATION CONTACT: Angelica Mendoza or Nancy Decker (antidumping duty investigation) at (202) 482-3019 and (202) 482-0196, respectively, Office 8, and Dana Mermelstein (countervailing duty investigations) at (202) 482-1391, Office 7, AD/CVD Enforcement, Group III, Import Administration, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (Department) regulations are to the regulations at 19 CFR part 351 (April 2000).

Background

This antidumping duty investigation was initiated on December 4, 2000. See Initiation of Antidumping Duty Investigation: Certain Hot-Rolled Carbon Steel Flat Products from Argentina, India, Indonesia, Kazakhstan, the Netherlands, the People's Republic of China, Romania, South Africa, Taiwan, Thailand, and Ukraine, 65 FR 77568 (December 12, 2000). The period of investigation (POI) is October 1, 1999 through September 30, 2000. On May 3, 2001, the Department published the notice of preliminary determination. See Notice of Preliminary Determination of Sales at Less Than Fair Value: Certain Hot-Rolled Carbon Steel Flat Products From Thailand, 66 FR 22199.

On March 23, 2001, petitioners submitted letters requesting alignment of the final determinations in the countervailing duty investigations involving Thailand and South Africa with the final determinations of the companion antidumping duty investigations of certain hot-rolled carbon steel flat products from Argentina, India, Indonesia, Kazakhstan, the Netherlands, the People's Republic of China, Romania, South Africa, Taiwan, Thailand and Ukraine. In accordance with section 705(a)(1) of the Act, we aligned the final determinations in these countervailing duty investigations with the final determinations in the companion antidumping investigations of certain hot-rolled carbon steel flat products. See Notice of Preliminary Affirmative Countervailing Duty Determination and Alignment With Final Antidumping Duty Determinations: Certain Hot-Rolled Carbon Steel Flat Products From Thailand, 66 FR 20251 (April 20, 2001), and Notice of Preliminary Affirmative Countervailing Duty Determination and Alignment With Final Antidumping Duty Determinations: Certain Hot-Rolled Carbon Steel Flat Products From South Africa, 66 FR 20261 (April 20, 2001).

Postponement of Final Determinations and Extension of Provisional Measures

Section 735(a)(2) of the Act provides that a final determination may be postponed until not later than 135 days after the publication of the preliminary determination if, in the event of an affirmative determination, a request for such postponement is made by exporters who account for a significant proportion of exports of the subject merchandise, or in the event of a negative preliminary determination, a request for such postponement is made by petitioners. The Department's regulations, at 19 CFR 351.210(e)(2), require that requests by respondents for postponement of a final determination be accompanied by a request for extension of provisional measures from a four-month period to not more than six months.

On May 1, 2001, Sahaviriya Steel Industries (respondent) requested that the Department postpone its final determination until not later than 135 days after the date of the publication of the preliminary determination in the Federal Register and requested an extension of the provisional measures. In accordance with 19 CFR 351.210(b), because (1) our preliminary determination is affirmative, (2) the respondent requesting the postponement accounts for a significant proportion of exports of the subject merchandise, and (3) no compelling reasons for denial exist, we are granting the respondent's request and are postponing the final determination until not later than 135 days after the publication of the preliminary determination in the Federal Register. Suspension of liquidation will be extended accordingly. Through this postponement of the final antidumping duty determination, we are also postponing the final countervailing duty determinations of certain hot-rolled carbon steel flat products from Thailand and South Africa which have been aligned with the companion antidumping duty investigations pursuant to section 705(a)(1) of the Act. This notice is published in accordance with section 735(a)(2) of the Act and 19 CFR 351.210(b)(2).

Dated: June 4, 2001.
Faryar Shirzad,
Assistant Secretary for Import Administration.

[FR Doc. 01-14916 Filed 6-12-01; 8:45 am]

BILLING CODE 3510-DS-P